ENVIRONMENTAL PROTECTION AGENCY

40 CFR Part 52

[EPA-R03-OAR-2012-0954; FRL-9796-3]

Approval and Promulgation of Air Quality Implementation Plans; Pennsylvania; Motor Vehicle Emissions Budgets for the Pennsylvania Counties in the Philadelphia-Wilmington, PA-NJ-DE 1997 Fine Particulate Matter Nonattainment Area

Correction

In rule document 2013-7539 beginning on page 19991 in the issue of Wednesday, April 3, 2013, make the following correction:

§ 52.2020 [Corrected]

On page 19993, in § 52.2020(e)(1), in the table, under the “Additional explanation” heading, “April 13, 2013” should read “April 3, 2013”.

[FR Doc. C1-2013-07539 Filed 5-2-13; 8:45 am]

BILLING CODE 1505-01-D